INTERNATIONAL TRADE COMMISSION

[Investigation Nos. 701-TA-595-596 and 731-TA-1401, 1403, and 1405-1406 (Final)]

Large Diameter Welded Pipe From Canada, Greece, Korea, and Turkey

Determinations

On the basis of the record ¹ developed in the subject investigations, the United States International Trade Commission (“Commission”) determines,2 3 pursuant to the Tariff Act of 1930 (“the Act”), that an industry in the United States is materially injured by reason of imports of carbon and alloy (other than stainless) steel large diameter welded line pipe from Canada, Korea, and Turkey provided for in subheadings 7305.11.10, 7305.11.50, 7305.12.10, 7305.12.50, 7305.19.10, and 7305.19.50 of the Harmonized Tariff Schedule of the United States (“HTSUS”) that have been found by the U.S. Department of Commerce (“Commerce”) to be sold in the United States at less than fair value (“LTFV”) and subsidized by the government of Korea. The Commission also determines that an industry in the United States is threatened with material injury by reason of LTFV imports of carbon and alloy (other than stainless) steel large diameter welded line pipe from Greece. Further, the Commission terminates the countervailing duty investigation on carbon and alloy (other than stainless) steel large diameter welded line pipe from Turkey.

¹ The record is defined in sec. 207.2(f) of the Commission's Rules of Practice and Procedure (19 CFR 207.2(f)).

² Commissioner Meredith M. Broadbent did not participate in the determinations regarding imports of large diameter welded pipe from Canada, Greece, Korea, and Turkey.

³ Commissioner Jason E. Kearns determines that an industry in the United States is materially injured by reason of LTFV imports of carbon and alloy (other than stainless) steel large diameter welded pipe from Canada, Korea, and Turkey, as well as imports of such merchandise subsidized by the government of Korea, and is threatened with material injury by reason of LTFV imports of carbon and alloy (other than stainless) steel large diameter welded pipe from Greece; and terminates the countervailing duty investigation on carbon and alloy (other than stainless) steel large diameter welded pipe from Turkey.

The Commission also determines that an industry in the United States is materially injured by reason of imports of carbon and alloy (other than stainless) steel large diameter welded structural pipe from Canada, Korea, and Turkey provided for in subheadings 7305.31.40, 7305.31.60, 7305.39.10, and 7305.39.50 of the HTSUS that have been found by Commerce to be sold in the United States at LTFV and subsidized by the governments of Korea and Turkey. In addition, the Commission terminates the antidumping duty investigation on carbon and alloy (other than stainless) steel large diameter welded structural pipe from Greece.

Finally, the Commission determines that an industry in the United States is not materially injured or threatened with material injury by reason of imports of stainless steel large diameter welded pipe from Canada and Korea provided for in subheading 7305.31.60 of the HTSUS, that have been found by Commerce to be sold in the United States at LTFV, and to be subsidized by the government of Korea. Further, the Commission terminates the antidumping duty investigation on stainless steel large diameter welded pipe from Greece and the antidumping and countervailing duty investigations on stainless steel large diameter welded pipe from Turkey.

Background

The Commission, pursuant to sections 705(b) and 735(b) of the Act (19 U.S.C. 1671d(b) and 19 U.S.C. 1673d(b)), instituted these investigations effective January 17, 2018, following receipt of a petition filed with the Commission and Commerce by American Cast Iron Pipe Company (Birmingham, Alabama), Berg Steel Pipe Corp. (Panama City, Florida), Berg Spiral Pipe Corp. (Mobile, Alabama), Dura-Bond Industries, Inc. (Export, Pennsylvania), Skyline Steel (Newington, Virginia), and Stupp Corporation (Baton Rouge, Louisiana). Effective August 27, 2018, the Commission established a general schedule for the conduct of the final phase of its investigations on large diameter welded pipe, following notification of preliminary determinations by Commerce that imports of large diameter welded pipe from China, India, Korea, and Turkey were subsidized within the meaning of section 703(b) of the Act (19 U.S.C. 1671b(b)) and that imports of large diameter welded pipe from Canada, China, Greece, India, Korea, and Turkey were being sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on September 6, 2018 (83 FR 45279). The hearing was held in Washington, DC, on November 6, 2018, and all persons who requested the opportunity were permitted to appear in person or by counsel. On January 30, 2019, the Commission issued final affirmative determinations in its antidumping and countervailing duty investigations of carbon and alloy (other than stainless) steel welded large diameter line pipe from India, its antidumping investigation of carbon and alloy (other than stainless) steel welded large diameter line pipe from China, and its antidumping and countervailing duty investigations of carbon and alloy (other than stainless) steel welded large diameter structural pipe from China; final negative determinations in its antidumping and countervailing duty investigations of stainless steel welded large diameter pipe from China and India; and terminated its countervailing duty investigation of carbon and alloy (other than stainless) steel welded large diameter line pipe from China, and its antidumping and countervailing duty investigations of carbon and alloy (other than stainless) steel welded large diameter structural pipe from India (84 FR 1785, February 5, 2019).⁴ Following notification of final determinations by Commerce that imports of large diameter welded pipe from Canada, Greece, Korea, and Turkey were being sold at LTFV within the meaning of section 735(a) of the Act (19 U.S.C. 1673d(a)),⁵ and subsidized by the governments of Korea and Turkey within the meaning of section 705(a) of the Act (19 U.S.C. 1671d(a)),⁶ notice of the supplemental scheduling of the final phase of the Commission's antidumping and countervailing duty investigations with respect to Canada, Greece, Korea, and Turkey was given by posting copies of the notice in the Office of the Secretary, U.S. International Trade Commission, Washington, DC, and by publishing the notice in the Federal Register of March 12, 2019 (84 FR 8892).

⁴ Due to the lapse in appropriations and ensuing cessation of government operations, all import injury investigations conducted under authority of Title VII of the Tariff Act of 1930 accordingly have been tolled pursuant to 19 U.S.C. 1671d(b)(2), 1673d(b)(2).

⁵ Large Diameter Welded Pipe From Canada: Final Affirmative Determination of Sales at Less Than Fair Value, 84 FR 6378, February 27, 2019; Large Diameter Welded Pipe From Greece: Final Determination of Sales at Less Than Fair Value, 84 FR 6364, February 27, 2019; Large Diameter Welded Pipe From the Republic of Korea: Final Determination of Sales at Less Than Fair Value, 84 FR 6374, February 27, 2019; Large Diameter Welded Pipe From the Republic of Turkey: Final Determination of Sales at Less Than Fair Value, 84 FR 6362, February 27, 2019.

⁶ Countervailing Duty Investigation of Large Diameter Welded Pipe From the Republic of Korea: Final Affirmative Countervailing Duty Determination, 84 FR 6369, February 27, 2019; and Large Diameter Welded Pipe From the Republic of Turkey: Final Affirmative Countervailing Duty Determination, 84 FR 6367, February 27, 2019.

The Commission made these determinations pursuant to sections 705(b) and 735(b) of the Act (19 U.S.C. 1671d (b) and 19 U.S.C. 1673d (b)). It completed and filed its determinations in these investigations on April 15, 2019. The views of the Commission are contained in USITC Publication 4883 (April 2019), entitled Large Diameter Welded Pipe from Canada, Greece, Korea, and Turkey, Investigation Nos. 701-TA-595-596 and 731-TA-1401, 1403, and 1405-1406 (Final).

By order of the Commission.
Issued: April 16, 2019.
Lisa Barton,
Secretary to the Commission.

[FR Doc. 2019-07898 Filed 4-18-19; 8:45 am]

BILLING CODE 7020-02-P